DEPARTMENT OF COMMERCE

National Oceanic and Atmospheric Administration

RIN 0648-XV00

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene a meeting of the Ad Hoc Data Collection Advisory Panel.

DATES: The meeting will convene at 1 p.m. on Monday, March 29, 2010 and conclude by 4:30 p.m. on Tuesday, March 30, 2010.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Dr. John Froeschke, Fishery Biologist; Gulf of Mexico Fishery Management Council; telephone: (813) 348-1630 x235.

SUPPLEMENTARY INFORMATION: The Ad Hoc Data Collection Advisory Panel will meet to discuss the development of general criteria for electronic reporting systems to improve accuracy and timeliness of data collected in Gulf of Mexico fisheries. On the first day of the meeting, the Ad Hoc Data Collection Advisory Panel will review electronic reporting systems, potential management benefits, consider challenges to implementation, and other requirements for the development of electronic reporting systems. The Advisory Panel will also discuss quality standards for self reported data with a review of existing Atlantic Coastal Cooperative Statistics Program (ACCSP) and Marine Recreational Information Program (MRIP) data Standards. On the second day, overviews of existing and pilot electronic reporting systems will be presented to the Advisory Panel. The Advisory Panel will review and discussing existing systems in place for commercial and recreational fisheries. The meeting will conclude with a discussion of minimum criteria and standards for electronic reporting systems for Gulf of Mexico fisheries for commercial and for-hire fisheries. The Advisory Panel will discuss issues related to data management and acquisition including: what data are needed to improve management, frequency of reported data, integration with existing data systems, and mechanisms for electronic reporting. The recommendations made by Ad Hoc Data Collection Advisory Panel will be presented to the Council at its April 12 - 15, 2010 meeting in Galveston, TX.

Copies of the agenda and other related materials can be obtained by calling (813) 348-1630.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Tina O'Hern at the Council (see ADDRESSES) at least 5 working days prior to the meeting.

Dated: March 5, 2010.
William D. Chappell,
Acting Director, Office of Sustainable Fisheries, National Marine Fisheries Service.

[FR Doc. 2010-5087 Filed 3-9-10; 8:45 am]

BILLING CODE 3510-22-S